DEPARTMENT OF LABOR

Employment and Training Administration

[TA-W-57,810]

Stone Apparel, a Subsidiary of Stone International, LLC; Industrias Orion S.A. DE C.V.; Columbia, SC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on September 16, 2005, applicable to workers of Stone Apparel, a subsidiary of Stone International, LLC, Columbia, South Carolina. The notice was published in the Federal Register on October 31, 2005 (70 FR 62347).

At the request of the State agency, the Department reviewed the certification for workers of the subject firm. The workers finished and distributed men's and boy's underwear.

New information shows that in July 2005, Industrias Orion S.A. DE C.V. purchased the manufacturing operations of Stone Apparel, a subsidiary of Stone International, Columbia, South Carolina. Some workers separated from employment at the subject firm had their wages reported under the separate Unemployment Insurance (UI) tax account for Industrias Orion S.A. DE C.V., Columbia, South Carolina.

Accordingly, the Department is amending the certification to properly reflect this matter.

The intent of the Department's certification is to include all workers of Stone Apparel, a subsidiary of Stone International, LLC who were adversely affected by a shift in production to El Salvador.

The amended notice applicable to TA-W-57,810 is hereby issued as follows:

“All workers of Stone Apparel, a subsidiary of Stone International, LLC, Industrias Orion S.A. DE C.V., Columbia, South Carolina, who became totally or partially separated from employment on or after August 19, 2004, through September 16, 2007, are eligible to apply for adjustment assistance under section 223 of the Trade Act of 1974, and are also eligible to apply for alternative trade adjustment assistance under section 246 of the Trade Act of 1974.”

Signed at Washington, DC this 13th day of April 2006.
Richard Church,
Certifying Officer, Division of Trade Adjustment Assistance.

[FR Doc. E6-6402 Filed 4-27-06; 8:45 am]

BILLING CODE 4510-30-P